DEPARTMENT OF AGRICULTURE

Food Safety and Inspection Service

[Docket No. 01-015N]

Science Based Reinspection of Imported Meat and Poultry Products

AGENCY: Food Safety and Inspection Service, USDA.

ACTION: Notice of public meeting.

SUMMARY: The Food Safety and Inspection Service (FSIS) is announcing a public meeting on June 8, 2001, to describe the Agency's plans for the modernization of port-of-entry reinspection of meat and poultry food products, including changes being made to the Automated Import Information System (AIIS).

DATES: The public meeting will be held on June 8, 2001, from 8:30 a.m. to 12:30 p.m. Preregistration is not necessary.

ADDRESSES: The public meeting will be held in the Columbia Room, Holiday Inn Capitol, 550 C Street SW., Washington, DC 20024, telephone (202) 479-4000. Transcripts of the meeting will be available in the FSIS Docket Office, Room 102-Annex, 300 12th Street, SW., Washington, DC 20250-3700. In addition to publishing this Federal Register notice, before the meeting, FSIS will alert consumers, industry groups, and foreign governments of the meeting through its FSIS Home Page at http://www.fsis.usda.gov, and the Constituent Updates and Alerts.

FOR FURTHER INFORMATION CONTACT: Ms. Karen Stuck, Acting Director, International Policy Staff, Office of Policy, Program Development, and Evaluation, telephone (202) 720-6400, or by FAX (202) 720-7990. Individuals wishing to present a prepared statement will be given an opportunity to speak at the end of the meeting. Oral statements will be limited to 5 minutes, with an opportunity to submit a longer written statement for the record. Any individual wishing to make a statement should contact Ms. Anita Manka no later than noon on June 7, 2001, at (202) 720-6400. In addition, there will be time allowed at the end of the meeting for questions and answers. Attendees requiring sign-language interpreters or other special accommodation should contact Ms. Ida Gambrell, by June 1, 2001, at (202) 690-6523 or by FAX at (202) 690-6519.

SUPPLEMENTARY INFORMATION:

Background

The United States Department of Agriculture, through the Food Safety and Inspection Service (FSIS), ensures that domestic and imported meat and poultry products are safe, wholesome, and accurately labeled. In 2000, the United States imported 3.72 billion pounds of meat and poultry from 31 countries.

The Federal Meat Inspection Act and the Poultry Products Inspection Act require foreign countries that export meat and poultry products to the United States to establish and maintain inspection systems that are equivalent to the U.S. inspection system. Countries must undergo a rigorous review process before they can become eligible to export meat or poultry products to the United States. The initial equivalence determination includes, but is not limited to, an extensive document and on-site review of the country's legislation, its command-and-control infrastructure, inspector training, inspection procedures, and laboratory analytical support services. Even after a country is granted eligibility, FSIS periodically audits the foreign country's inspection program to ensure that it remains equivalent to the U.S. system. As a further check on the performance of the foreign country's inspection system, FSIS reinspects products on a sample basis as they enter the U.S., after they have already been inspected and passed by the foreign country's equivalent inspection system.

About 75 FSIS inspectors carry out reinspection at approximately 150 official import establishments located at land and water ports on the perimeter of the country. All shipments of products are checked for proper certification and general condition, and some shipments are randomly selected for additional reinspection assignments as directed by the Automated Import Information System (AIIS). The AIIS, which was implemented in 1978, is a computer system that links all ports of entry, makes inspection assignments, and collects compliance histories for countries and plants. FSIS uses AIIS information in verifying and evaluating the performance of the foreign country's inspection system. FSIS import inspectors enter data about shipments, and the AIIS identifies shipments for sampling and determines the appropriate inspection assignment. Assignments can include product examination; determination of condition of container; and microbiological, residue, and food chemistry laboratory analysis.

The principle underlying FSIS import inspection activities is the systems approach, which focuses on a foreign country's overall inspection system rather than on individual establishments. The intent of the current revision of the port-of-entry reinspection program is to extend the systems approach to all port-of-entry activities.

For all countries except Canada, the monitoring assignments directed by the AIIS are based on the compliance history of the foreign plant for the specific product being imported. Since 1989, FSIS has used a random sampling approach for shipments from Canada. For Canada, the AIIS randomly selects shipments from the country, as a whole, for monitoring sampling by FSIS. Once selected, a shipment is subject to the full range of reinspection assignments applicable to the specific product. By contrast, the shipments selected for reinspection from all other countries are subject to one or more reinspection assignments based on the compliance history of the plant.

FSIS plans to revise the port of entry reinspection program for imported meat and poultry products by extending to all countries the systems approach used to monitor Canada for more than 10 years. FSIS plans to revise the reinspection system to: (1) Focus the sampling of products at port of entry on monitoring a country's inspection system rather than individual plants within the system; (2) reprogram the AIIS to accommodate the new system and to provide better information for making equivalency decisions; and (3) modify procedural and facility requirements for import establishments to increase the responsibility of the industry for control of imported meat and poultry. Some elements could require rulemaking, and FSIS will use the public meeting to explain current thinking on the subject.

Re-programming the AIIS is long overdue and will provide an automated system better able to respond to inspection changes and to provide timely reports on a country's performance to program managers. FSIS estimates that the new system will be fully operational by the end of 2001. Adoption of the systems approach for port-of-entry reinspection of meat and poultry from all countries will facilitate the collection of more statistically reliable data on a country's performance. FSIS currently uses more than 300 product codes to designate product categories for import reinspection. Changing the entry of shipment data in the AIIS to processing categories already established by FSIS in the HACCP regulations (9 CFR 417.2(b)(i)-(ix)), e.g, raw product ground; raw product not ground; thermally processed-commercially sterile; product not heat treated-shelf stable; and fully cooked-not shelf stable, will streamline the system and make it more compatible with HACCP rules. Using the domestic program's processing category system will simplify entry, ensure consistency between domestic and imported requirements, and provide a seamless system that can be more easily used by all FSIS inspectors.

FSIS will not change the standards used to judge the acceptability of meat and poultry products re-inspected at the port of entry. When the shipment fails a reinspection, the exporting establishment will continue to be subject to follow-up sampling, which is in addition to the targeted monitoring levels for the exporting country.

FSIS believes that the modernization of the way it performs reinspection of imported meat and poultry products is necessary to fully utilize the systems approach and to strengthen the basis for judging the continued equivalence of inspection systems maintained by foreign countries exporting meat and poultry products to the U.S.

The Agency invites all interested parties to participate in the June 8, 2001, public meeting to gain a better understanding of the changes FSIS plans to make and to have the opportunity to request clarification.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: May 23, 2001.
Thomas J. Billy,
Administrator.

[FR Doc. 01-13387 Filed 5-25-01; 8:45 am]

BILLING CODE 3410-DM-P